DEPARTMENT OF EDUCATION

34 CFR Chapter III

[ED-2020-OSERS-0034]

Final Waiver and Extension of the Project Periods for Television Access Grants

AGENCY: Office of Special Education and Rehabilitative Services (OSERS), Department of Education.

ACTION: Final waiver and extension of project periods.

SUMMARY: The Secretary waives the requirements in the Education Department General Administrative Regulations that generally prohibit project periods exceeding five years and project period extensions involving the obligation of additional Federal funds. The waiver and extension enable five projects under Catalog of Federal Domestic Assistance (CFDA) number 84.327C to receive funding for an additional period, not beyond September 30, 2021.

DATES: The waiver and extension of the project periods are effective July 2, 2020.

FOR FURTHER INFORMATION CONTACT: Glinda Hill, U.S. Department of Education, 400 Maryland Avenue SW, Room 5173, Potomac Center Plaza, Washington, DC 20202-5076. Telephone: 202-245-7376. Email: Glinda.Hill@ed.gov.

If you use a telecommunications device for the deaf (TDD) or a text telephone (TTY), call the Federal Relay Service (FRS), toll free, at 1-800-877-8339.

SUPPLEMENTARY INFORMATION:

Background

On January 14, 2015, the Department of Education (Department) published in the Federal Register (80 FR 1900) a notice inviting applications for five video description and captioning projects for fiscal year (FY) 2015 under the Educational Technology, Media, and Materials program, authorized under sections 674 and 681(d) of the Individuals with Disabilities Education Act (IDEA).

The purpose of the video description and captioning projects is to improve the learning opportunities for children with disabilities by providing access to television programming through high-quality video description and captioning. These projects support access to widely available television programs that are appropriate for use in the classroom setting and are not otherwise required to be captioned or described by the Federal Communications Commission (FCC). A table listing the FY 2015 video description and captioning projects follows:

FY 2015 awards under CFDA 84.327C | Grantee project name
H327C150001 | Companion Enterprise, Inc., Tulsa, OK. Project: Narrative Television Network.
H327C150007 | Bridge Multimedia, Inc., New York, NY. Project: Video Description for the Next Generation.
H327C150008 | Bridge Multimedia, Inc., New York, NY. Project: Standards Aligned Video Description.
H327C150009 | Closed Caption Latina, Corp., Winter Springs, FL. Project: Captions and Video Description: Educational Tools for Hispanic Children with Disabilities.
H327C170002 (Transferred from H327C150003) | Captionmax LLC, Minneapolis, MN. Project: Television Access for Preschool and Elementary School Children.

The Department also funds one project under CFDA 84.327N, Educational Technology, Media, and Materials for Individuals with Disabilities—Captioned and Described Educational Media, the Center for the Described and Captioned Media Program (DCMP). The purpose of the DCMP is to establish and operate an Accessible Learning Center that oversees the selection, acquisition, captioning, video description, and distribution of educational media through a free loan service for eligible users. The video description and captioning projects are required to use the DCMP's portal as a repository so that eligible users can easily access the video described and captioned media. The DCMP's project period started on October 1, 2016, and will end on September 30, 2021.

On April 2, 2020, the Department published a notice in the Federal Register (85 FR 18508) proposing an extension of the project period and a waiver of the requirements in 34 CFR 75.250, which prohibit project periods exceeding five years, as well as a waiver of the requirements in 34 CFR 75.261(a) and (c)(2), which allow the extension of a project period only if the extension does not involve the obligation of additional Federal funds. The proposed extension and waivers would enable the Secretary to provide additional funds to all five projects currently funded under CFDA number 84.327C for an additional period not beyond September 30, 2021.

Public Comment

No comments were submitted in response to our invitation in the notice of proposed waiver and extension of the project periods.

Final Waivers and Extensions

The Department is extending the end dates of the five video description and captioning projects to align with that of the DCMP, which ends on September 30, 2021, as it will receive its final year of funding in FY 2020. The Department does not believe that it is in the public interest to run a competition for CFDA 84.327C in FY 2020. Aligning the end dates of these project periods allows the Department to better coordinate the Description and Captioning program. Aligning the project periods of the video description and captioning projects and the DCMP also will improve coordination across projects, allow for more efficient use of the funding available to support these activities, and ensure easier access to a wider range and increasing numbers of captioned and described educational media and programming.

For these reasons, the Secretary waives the requirements in 34 CFR 75.250, which prohibit project periods exceeding five years, as well as the requirements in 34 CFR 75.261(a) and (c)(2), which allow the extension of a project period only if the extension does not involve the obligation of additional Federal funds. This waiver allows the Department to issue a one-time FY 2020 continuation award to each of the five currently funded 84.327C projects.

Any activities carried out during the year of this continuation award will be consistent with, or a logical extension of, the scope, goals, and objectives of the grantees' applications as approved in the FY 2015 competition. The requirements for continuation awards are set forth in 34 CFR 75.253.

Waiver of Delayed Effective Date

The Administrative Procedure Act requires that a substantive rule must be published at least 30 days before its effective date, except as otherwise provided for good cause (5 U.S.C. 553(d)(3)). A delayed effective date would be contrary to public interest by creating a gap in production of described and captioned educational programming and delays in the availability of programming for children with disabilities. Therefore, the Secretary waives the delayed effective date provision for good cause.

Regulatory Flexibility Act Certification

The Secretary certifies that the waiver and extension of the project periods will not have a significant economic impact on a substantial number of small entities. The only entities that will be affected by the waiver and extension of the project periods are the current grantees. Additionally, the extension of an existing project period imposes minimal compliance costs, and the activities required to support the additional year of funding will not impose additional regulatory burdens or require unnecessary Federal supervision.

Paperwork Reduction Act of 1995

This waiver and extension of the project periods does not contain any information collection requirements.

Intergovernmental Review

These programs are subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schultz,
Commissioner, Rehabilitation Services Administration. Delegated the authority to perform the functions and duties of the Assistant Secretary for the Office of Special Education and Rehabilitative Service.

[FR Doc. 2020-12954 Filed 7-1-20; 8:45 am]

BILLING CODE 4000-01-P